DEPARTMENT OF AGRICULTURE

Food and Nutrition Service

Nominations Open for the Vacancies on the National Advisory Council on Maternal, Infant and Fetal Nutrition

AGENCY: Food and Nutrition Service (FNS), USDA.

ACTION: Nominations open for the vacancies on the National Advisory Council on Maternal, Infant and Fetal Nutrition.

SUMMARY: FNS is seeking nominations for 9 vacancies on the National Advisory Council on Maternal, Infant and Fetal Nutrition (Council). The Council is composed of 24 members. Members of the Council from outside USDA and the U.S. Department of Health and Human Services (HHS) are appointed for 3-year terms. State and local officials may serve only during their official tenure. Parent participants are appointed for 2-year terms. Members appointed from USDA and HHS serve at the pleasure of their respective Secretaries.

The Council studies the operation of the Special Supplemental Nutrition Program for Women, Infants and Children (WIC), and related programs such as the Commodity Supplemental Food Program (CSFP). Categories of membership are specified by law. To ensure a balance of differing views, Council members are drawn from Federal, State and local governments, industry, and organizations with a common interest in the management of WIC and CSFP, including parent participants in both programs. The vacant positions include:

State CSFP Director

The individual responsible for administering the CSFP at the State level. Has operational knowledge about all aspects of CSFP management.

State WIC Program Fiscal Director

The individual responsible for the administration and monitoring of WIC grants at the State and local levels. This includes monitoring compliance of State and local budgets and expenditures with fiscal policies and procedures

Local WIC Program Project Director in an Urban Area

The individual responsible for implementing Federal and State policy guidelines and administering the WIC Program at the local level in an urban area. Has operational knowledge about all aspects of the WIC Program, including policy, grants management, accounting systems, and computer systems.

Local CSFP Project Director

The individual responsible for administering the CSFP at the local level. Has operational knowledge about all aspects of CSFP management.

CSFP Parent Participant

A pregnant, postpartum or breastfeeding woman, or the parent/guardian of an infant and/or child participating in CSFP.

Pediatrician

A physician specializing in the development, care and diseases of children.

Obstetrician

A physician specializing in obstetrics, i.e., the care of women during and after pregnancy.

Expert in Alcohol Education and Prevention

An individual experienced in alcohol abuse education and prevention, especially in the areas of screening, counseling and referring for treatment of pregnant and postpartum women.

Expert in Breastfeeding Promotion

An individual who has education and training in the skills and techniques of breastfeeding.

Section 17(k) of the Child Nutrition Act of 1966, as amended (42 U.S.C. 1786), mandates the Council and authorizes the Secretary of Agriculture to appoint its members. The White House Liaison Office is responsible for vetting every candidate who applies for membership to the Council. In order to be appointed by the Secretary of Agriculture to serve on a board, council or committee, each applicant must clear all stages of the vetting process. Vetting is a comprehensive personal and professional background investigation that specifically includes, but is not limited to, an analysis of each candidate's criminal history, bankruptcy filings, liens and judgments, affiliations and associations, lobbyist status, and prior involvement with USDA.

This process is used to ensure that the finest candidates are selected to represent the interests of the United States Department of Agriculture. Individuals and organizations who wish to nominate experts for this or any other USDA advisory committee should submit a letter to the Secretary listing these individuals' names and business address, phone, and email contact information. These individuals may be contacted now or in the future to determine their interest in serving as a committee member.

Candidates who wish to be considered for membership on the Council should submit a USDA “Application for Advisory Committee Membership” (Form AD-755) application form and resume to the Secretary of Agriculture. Cover letters should be addressed to the Secretary of Agriculture. All nomination materials should be mailed in a single, complete package and postmarked by January 23, 2017 to: Thomas Vilsack, Secretary, U.S. Department of Agriculture, 1400 Independence Avenue SW., Washington, DC, 20250 at the attention of Robin Young, DFO, USDA/FNS/SFPD. The application form and more information about advisory committees can be found at http://www.usda.gov/wps/portal/usda/usdahome?contentidonly=true&contentid=advisory_committees.xml.

FNS has special interest in ensuring that women, minority groups, and individuals with disabilities are adequately represented on these advisory committees. We encourage and welcome nominations for qualified candidates.

Dated: December 15, 2016.
Audrey Rowe,
Administrator, Food and Nutrition Service.

[FR Doc. 2016-30849 Filed 12-21-16; 8:45 am]

BILLING CODE 3410-30-P